NUCLEAR REGULATORY COMMISSION

Sunshine Notice

AGENCY: Nuclear Regulatory Commission.

DATES: Weeks of June 2, 9, 16, 23, 30, July 7, 2003.

Place: Commissioner's Conference Room, 11555 Rockville Pike, Rockville, Maryland.

Status: Public and Closed.

Matters to be Considered:

Week of June 2, 2003.

Friday, June 6, 2003

10 a.m. Discussion of Security Issues (Closed—Ex. 1).

Week of June 9, 2003—Tentative

Wednesday, June 11, 2003

10:30 a.m. All Employees Meeting (Public Meeting).

1:30 p.m. All Employees Meeting (Public Meeting).

Week of June 16, 2003—Tentative

There are no meetings scheduled for the Week of June 16, 2003.

Week of June 23, 2003—Tentative

There are no meetings scheduled for the Week of June 23, 2003.

Week of June 30, 2003—Tentative

Tuesday, July 1, 2003

10 a.m. Briefing on Status of Office of Nuclear Security and Incident Response (NSIR) Programs, Performance, and Plans (Closed—Ex. 1).

Week of July 7, 2003—Tentative

There are no meetings scheduled for the Week of July 7, 2003.

* The schedule for Commission meetings is subject to change on short notice. To verify the status of meetings call (recording)—(301) 415-1292. Contact person for more information: David Louis Gamberoni (301) 415-1651.

SUPPLEMENTARY INFORMATION:

* * * * *

“Discussion of Management Issues (Closed—Ex. 2),” originally scheduled for May 28, 2003, was not held.

By a vote of 4-0 on May 28, the Commission determined pursuant to U.S.C. 552b(e) and § 9.107(a) of the Commission's rules that “Affirmation of Private Fuel Storage (Independent Spent Fuel Storage Installation) Docket No. 72-22-ISFSI; Order Regarding Petition for Review” be held on May 28, and on less than one week's notice to the public.

* * * * *

The NRC Commission Meeting Schedule can be found on the Internet at: http://www.nrc.gov/what-we-do/policy-making/schedule.html

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: May 29, 2003.
D.L. Gamberoni,
Technical Coordinator, Office of the Secretary.

[FR Doc. 03-13981 Filed 5-30-03; 11:33 am]

BILLING CODE 7590-01-M